DEPARTMENT OF TRANSPORTATION

Federal Aviation Administration

Approval of Modifications to Noise Compatibility Program Sarasota-Bradenton International Airport Sarasota, FL

AGENCY: Federal Aviation Administration, DOT.

ACTION: Notice.

SUMMARY: The Federal Aviation Administration (FAA) announces its findings on a modification to the noise compatibility program submitted by the Sarasota Manatee Airport Authority under the provisions of Title I of the Aviation Safety and Noise Abatement Act of 1979 (Pub. L. 96-193) and 14 CFR part 150. These findings are made in recognition of the description of Federal and nonfederal responsibilities in Senate Report No. 96-52 (1980). On May 7, 1996 and April 15, 1997, the FAA determined that the noise exposure maps submitted by the Sarasota Manatee Airport Authority under part 150 were in compliance with applicable requirements. On October 9, 1997, the Administrator approved the Sarasota-Bradenton International Airport noise compatibility program. On December 1, 2000, the Administrator approved a modification to the noise compatibility program. All of the program measures in the modification were fully approved.

DATES: The effective date of the FAA's approval of modifications to the Sarasota-Bradenton International Airport noise compatibility program is December 1, 2000.

FOR FURTHER INFORMATION CONTACT: Mr. Tommy J. Pickering, P.E., Federal Aviation Administration, Orlando Airports District Office, 5950 Hazeltine National Drive, Suite 400, Orlando, Florida 32822, (407) 812-6331, Extension 29. Documents reflecting this FAA action may be reviewed at this same location.

SUPPLEMENTARY INFORMATION: This notice announces that the FAA has given its overall approval to the noise compatibility program modification for Sarasota-Bradenton International Airport, effective December 1, 2000.

Under Section 104(a) of the Aviation Safety and Noise Abatement Act of 1979 (hereinafter referred to as “the Act”), an airport operator who has previously submitted a noise exposure map may submit to the FAA a noise compatibility program which sets forth the measures taken or proposed by the airport operator for the reduction of existing noncompatible land uses and prevention of additional noncompatible land uses within the area covered by the noise exposure maps. The Act requires such programs to be developed in consultation with interested and affected parties including local communities, government agencies, airport users, and FAA personnel.

Each airport noise compatibility program developed in accordance with Federal Aviation Regulations (FAR) part 150 is a local program, not a Federal program. The FAA does not substitute its judgment for that of the airport proprietor with respect to which measure should be recommended for action. The FAA's approval or disapproval of FAR part 150 program recommendations is measured according to the standards expressed in part 150 and the Act, and is limited to the following determinations:

a. The noise compatibility program was developed in accordance with the provisions and procedures of FAR part 150;

b. Program measures are reasonably consistent with achieving the goals of reducing existing noncompatible land uses around the airport and preventing the introduction of additional noncompatible land uses;

c. Program measures would not create an undue burden on interstate or foreign commerce, unjustly discriminate against types of classes of aeronautical users, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, § 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, Florida.

The Sarasota Manatee Airport Authority submitted to the FAA on May 2, 1996 and April 9, 1997, updated noise exposure maps, descriptions, and other documentation produced during the noise compatibility planning study conducted from May 1, 1993 through April 7, 1997. The Sarasota-Bradenton International Airport noise exposure maps were determined by FAA to be in compliance with applicable requirements on May 7, 1996 and April 15, 1997. Notices of these determinations were published in the Federal Register.

The latest Sarasota-Bradenton International Airport study contains a proposed noise compatibility program modification comprised of actions designed for phased implementation by airport management and adjacent jurisdictions from the date of study completion to the year 2002. It was requested that FAA evaluate and approve this material as a noise compatibility program modification as described in Section 104(b) of the Act. The FAA began its review of the program modification on June 5, 2000, and was required by a provision of the Act to approve or disapprove the program modification within 180-days (other than the use of new flight procedures for noise control). Failure to approve or disapprove such program modification within the 180-day period shall be deemed to be an approval of such program modification.

The submitted program modification contained three (3) proposed actions for noise mitigation off the airport. The FAA completed its review and determined that the procedural and substantive requirements of the Act and FAR part 150 have been satisfied. The overall program modification, therefore, was approved by the Administrator effective December 1, 2000.

Out right approval was granted for all three (3) of the specific program measures. The approval action was for the following program controls:

Land Use Measures
Noise abatement measure | Description | NCP pages
1. Sound Insulation with Avigation Easement | It is recommended that the Sarasota Manatee Airport Authority (SMAA) offer to provide sound insulation, only where feasible and cost effective and in exchange for an avigation easement to homeowners located within the DNL 65+dB contour of the 2000 Noise Exposure Map in Sarasota and Manatee Counties who purchased their current home prior to October 1, 1998. Owners of mobile homes are not eligible for this measure. Priority will be given to homeowners located within the DNL 70+dB contour, and that priority ranking will be based upon length of ownership. This will reduce existing non-compatible land uses and provide for SMAA to offer sound insulation and easements to homeowners who purchased prior to the last date allowed for eligibility of noise funds for use for noise mitigation of non-compatible structures. FAA Action: Approved. This is consistent with FAA's Final Policy on the Part 150 Approval of Noise Mitigation Measures because these homes which were built prior to October 1, 1998, constitute existing non-compatible development that is eligible for remedial noise mitigation measures. FAA's policy relates to the date of the residential development, and not to the date of purchase as indicated in the Noise Compatibility Program | pgs. 1 through 7 and Figures 4, 5 and 6.
2. Purchase of an Avigation Easement | It is recommended that the SMAA offer to purchase avigation easements from homeowners located with the DNL 65+dB contour of the 2000 Noise Exposure Map in Sarasota and Manatee Counties who purchased their current home prior to October 1, 1998. Priority will be given to homeowners located within the DNL 70+dB contour, and that priority ranking will be based upon length of ownership. This will reduce existing non-compatible land uses and provide mitigation for homeowners who purchased prior to the last date allowed for eligibility of noise funds for use for noise mitigation of non-compatible structures. FAA Action: Approved. This is consistent with FAA's Final Policy on Part 150 Approval of Noise Mitigation Measures because these homes which were built prior to October 1, 1998, constitute existing non-compatible development that is eligible for remedial noise mitigation measures. FAA's policy relates to the date of the residential development, and not to the date of purchase as indicated in the Noise Compatibility Program. This measure would apply to existing residential development where soundproofing is not feasible and cost effective, such as mobile homes and early Twentieth Century era Mediterranean style homes constructed using walls and materials which make standard sound insulation techniques very difficult and costly | pgs. 1 through 7 and Figures 4, 5 and 6.
3. Purchase and Resale with Avigation Easements and Sound Insultation | It is recommended that the SMAA offer to purchase fee simple interest from homeowners who purchased their current home prior to December 15, 1986, and who are located within the DNL 65+dB contour of the 2000 Noise Exposure Map in Sarasota and Manatee Counties. Homes purchased by the SMAA will be sound insulated only where feasible and cost effective and all homes will be resold with an avigation easement. Priority will be given to homeowners located within the DNL 70+dB contour, and that priority ranking will be based upon length of ownership. This will reduce existing non-compatible land uses and provide mitigation for homeowners who purchased prior to the date of constructive notice. FAA Action: Approved. This measure would apply to existing residential development where soundproofing is not feasible and cost effective. Sound insulation was determined not to be feasible and cost effective for mobile homes. As a result mobile home owners are limited to choosing between an easement or purchase and resale by the airport with an easement | pgs. 1 through 7 and Figures 4, 5 and 6.

These determinations are set forth in detail in a Record of Approval endorsed by the Administrator on December 1, 2000. The Record of Approval, as well as other evaluation materials and the documents comprising the submittal, are available for review at the FAA office listed above and at the administrative office of the Sarasota Manatee Airport Authority.

Issued in Orlando, Florida on December 14, 2000.
Bart Vernace,
Acting Manager, Orlando Airports District Office.

[FR Doc. 01-706 Filed 1-9-01; 8:45 am]

BILLING CODE 4910-13-M